DEPARTMENT OF HOMELAND SECURITY

Coast Guard

33 CFR Part 165

[Docket No. USCG-2025-0477]

Safety Zone; Bayfield Fireworks, Bayfield, WI

AGENCY: Coast Guard, Department of Homeland Security (DHS).

ACTION: Notification of enforcement of regulation.

SUMMARY: The Coast Guard will enforce a safety zone for the City of Bayfield 4th of July Fireworks Display in Bayfield, WI. This action is intended to protect personnel, vessels, and the marine environment from potential hazards created by a fireworks display. During the enforcement period listed below, entry into, transiting, or anchoring within the safety zone is prohibited unless authorized by the Captain of the Port (COTP) Marine Safety Unit Duluth or his or her on-scene representative.

DATES: The regulations in 33 CFR 165.943 will be enforced for the City of Bayfield 4th of July Fireworks Display safety zone event listed in item 3 in table 1 to § 165.943, from 9 p.m. to 11 p.m. on July 4, 2025.

FOR FURTHER INFORMATION CONTACT: If you have questions about this notification of enforcement, call or email LT Zachary Fedak, Marine Safety Unit Duluth, U.S. Coast Guard; telephone 218-522-0708, email Zachary.A.Fedak@uscg.mil.

SUPPLEMENTARY INFORMATION: The Coast Guard will enforce a safety zone regulation in 33 CFR 165.943 for the annual City of Bayfield 4th of July Fireworks Display listed in item 3 in table 1 to § 165.943, from 9 p.m. to 11 p.m., on July 4, 2025. This action is being taken to provide for the safety of life on navigable waterways during this event. The regulation for recurring marine events within the Captain of the Port (COTP) Duluth Zone, table 1 to § 165.943, item 3, specifies the location of the regulated area for the Bayfield Fireworks event. During the enforcement period, no vessel or person will be permitted to enter the safety zone without obtaining permission from the COTP Marine Safety Unit Duluth or his or her on-scene representative.

In addition to this notification of enforcement in the Federal Register, the Coast Guard will provide notification of this enforcement period via Broadcast Notice to Mariners.

Dated: May 28, 2025.
John P. Botti,
Commander, U.S. Coast Guard, Captain of the Port Duluth.

[FR Doc. 2025-10222 Filed 6-4-25; 8:45 am]

BILLING CODE 9110-04-P